DEPARTMENT OF THE TREASURY

Publication of FY 2010 Service Contract Inventory

AGENCY: Departmental Offices, Treasury.

ACTION: Notice of publication of Fiscal Year 2010 Service Contract Inventory.

SUMMARY: The Department of the Treasury Fiscal Year (FY) 2010 Service Contract Inventory is available to the public at http://www.treasury.gov/about/organizational-structure/offices/Pages/Office-of-the-Procurement-Executive.aspx under Key Topics. The inventory lists all service contract actions over $25,000 awarded in FY 2010 and funded by Treasury, to include contract actions made on the Department's behalf by other agencies. Contract actions awarded by the Department on another agency's behalf with the other agency's funding are excluded.

FOR FURTHER INFORMATION CONTACT: Cathy Higginbotham, Office of the Procurement Executive, Department of the Treasury, 1500 Pennsylvania Avenue, NW., Washington, DC 20220, at (202) 622-6585 or ootpe@do.treas.gov.

SUPPLEMENTARY INFORMATION: In accordance with Section 743 of Division C of the FY 2010 Consolidated Appropriations Act, Public Law (Pub. L.) 111-117, agencies required to submit an inventory in accordance with the Federal Activities Inventory Reform Act of 1998 (Pub. L. 105-270; 31 U.S.C. 501 note), other than the Department of Defense, shall also prepare an annual service contract inventory. Treasury submitted its inventory to the Office of Management and Budget (OMB) on December 20, 2010.

Analysis of inventory data will be used to assist the Department in determining if contract labor is being used in an appropriate and effective manner, if the mix of federal employees and contractors in the Department is effectively balanced, if contract performance is satisfactory, and what, if any, actions should be taken to correct or mitigate any issues identified. A report of analyses conducted and resulting actions taken will be submitted to OMB by December 30, 2011.

Alastair Fitzpayne,
Executive Secretary.

[FR Doc. 2011-2116 Filed 1-28-11; 8:45 am]

BILLING CODE P